NEIGHBORHOOD REINVESTMENT CORPORATION

Sunshine Act Meetings; Regular Board of Directors Meeting

TIME AND DATE: 2:00 p.m., Thursday, April 16, 2020.

PLACE: via Conference Call.

STATUS: Open (with the exception of Executive Session).

MATTERS TO BE CONSIDERED: The General Counsel of the Corporation has certified that in his opinion, one or more of the exemptions set forth in 5 U.S.C. 552(b)(2) and (4) permit closure of the following portion(s) of this meeting:

• Executive Session

Agenda

I. Call to Order

II. Executive Session

III. Action Item Approval of Minutes

IV. Action Item External Auditor Selection

V. Action Item Truist Proposal up to $10M

VI. Action Item LIFT 7.0 Board Decision Memo

VII. Discussion Item NeighborWorks Compass ™

VIII. Discussion Item Master Investment Agreement Renewal and Capital Corporations Funding

IX. Discussion Item Revising Fundraising Policy to Reflect December 2019 Board Resolution

X. Discussion Item Kansas City Office Lease Renewal

XI. Management Program Background and Updates

XII. Adjournment

CONTACT PERSON FOR MORE INFORMATION: Lakeyia Thompson, Special Assistant, (202) 524-9940; Lthompson@nw.org.

Lakeyia Thompson,
Special Assistant.

[FR Doc. 2020-07958 Filed 4-10-20; 4:15 pm]

BILLING CODE 7570-02-P